DEPARTMENT OF AGRICULTURE

Commodity Credit Corporation

7 CFR Part 1481

RIN 0560-AH04

Sugar Beet Disaster Program

AGENCY: Commodity Credit Corporation, USDA.

ACTION: Final rule.

SUMMARY: This rule implements provisions of the Agricultural Assistance Act of 2003, related to the Sugar Beet Disaster Program. This program will assist sugar beet producers who suffered production losses for either the 2001 or 2002 crop year due to weather related disasters which resulted in the prevention of planting or the reduction of quantity or quality while the beets were in the field.

EFFECTIVE DATE: August 18, 2003.

FOR FURTHER INFORMATION CONTACT: Sharon Biastock, Production, Emergencies, and Compliance Division, Farm Service Agency (FSA), U.S. Department of Agriculture, 1400 Independence Ave. SW., Stop 0517, Washington, DC 20250-0540, telephone (202) 720-6336; e-mail address: sharon_biastock@wdc.usda.gov.

SUPPLEMENTARY INFORMATION:

Background

This final rule implements Sec. 208 of the Agricultural Assistance Act of 2003 (Pub. L. 108-7) related to the Sugar Beet Program. The statute provides that the Secretary of Agriculture (Secretary) may use up to $60 million of the funds of the Commodity Credit Corporation (CCC) to pay producers with sugar beet crops who were adversely affected by weather for in-field losses prior to harvest for either the 2001 or 2002 crop year, but not both, as elected by the producers. Congress set forth a clear separate funding and authorization to accommodate the specific needs of sugar beet growers. Therefore, modifications to the disaster assistance provisions for other crops have been made to meet those needs of sugar beet growers.

CCC is promulgating this rule as 7 CFR part 1481, and replacing the current regulations in that part governing the Limited California Cooperative Insolvency Payment Program (LCCIPP). The LCCIPP was authorized by section 843 of the Agriculture, Rural Development, Food and Drug Administration, and Related Agencies Appropriations Act, 2001 (Pub. L. 106-387, 114 Stat. 1549) and was implemented by CCC under the CCC Charter Act (15 U.S.C. 714 et seq.). The program made payments to producers who suffered losses on commodities produced during the 2000 crop year because of the insolvency of an agriculture cooperative in California. LCCIPP is now terminated.

Executive Order 12866

This final rule is issued in conformance with Executive Order 12866 and was determined to be significant and reviewed by the Office of Management and Budget.

Regulatory Flexibility Act

The Regulatory Flexibility Act is not applicable to this rule because USDA is not required by 5 U.S.C. 553 or any other law to publish a notice of proposed rulemaking for to the subject matter of this rule.

Environmental Evaluation

The environmental impacts of this rule have been considered in accordance with the provisions of the national Environmental Policy Act of 1969 (NEPA), 42 U.S.C. 4321 et seq., the regulations of the Council on Environmental Quality (40 CFR parts 1500-1508), and FSA's regulations for compliance with NEPA, 7 CFR part 799. To the extent these authorities may apply, CCC and FSA have concluded that this rule is categorically excluded from further environmental review as evidenced by the completion of an environmental evaluation. No extraordinary circumstances or other unforeseeable factors exist which would require preparation of an environmental assessment or environmental impact statement. A copy of the environmental evaluation is available for inspection and review upon request.

Executive Order 12372

This program is not subject to the provisions of Executive Order 12372, which require intergovernmental consultation with State and local officials. See the notice related to 7 CFR part 3015, subpart V, published at 48 FR 29115 (June 24, 1983).

Executive Order 12988

This rule has been reviewed in accordance with Executive Order 12988. This rule preempts State laws that are inconsistent with this rule. Before judicial action may be brought on this rule, the administrative remedies must be exhausted.

Unfunded Mandates Reform Act of 1995

Title II of the Unfunded Mandates Reform Act of 1995 is not applicable to this rule because USDA is not required by 5 U.S.C. 553 or any other law to publish a notice of proposed rulemaking for the subject matter of this rule. Further, in any case, this rule does not impose any mandates on State, local or tribal governments, or the private sector.

Paperwork Reduction Act

Section 217 of Public Law 108-7 requires that the promulgation of the regulations and administration of this title shall be made without regard to the notice and comment provisions of section 553 of title 5, United States Code; the Statement of Policy of the Secretary of Agriculture effective July 24, 1971 (36 FR 13804), relating to notices of proposed rule making and public participation in rulemaking; and 44 U.S.C. chapter 35 (the Paperwork Reduction Act (PRA)).

Government Paperwork Elimination Act

CCC is committed to compliance with the Government Paperwork Elimination Act, which requires Federal Government agencies to provide the public the option of submitting information or transacting business electronically to the maximum extent possible. However, the forms and other information collection activities required by participation in the Sugar Beet Disaster Program are not yet fully implemented for the public to conduct business with FSA electronically. CCC will make the application for the Sugar Beet Disaster Program available on the agency's Internet Web site. The form may be completed and saved on a computer, but must be printed, signed and submitted to an FSA County Office in paper form.

Federal Assistance Program

This rule affects the following FSA program listed in the Catalog of Federal Domestic Assistance: 10.073—Crop Disaster Program.

List of Subjects in 7 CFR part 1481

Agriculture, Sugar, Disaster Assistance.

Accordingly, 7 CFR part 1481 is revised as follows:

PART 1481—SUGAR BEET DISASTER PROGRAM

Sec.
1481.1 Applicability.
1481.2 Administration.
1481.3 Definitions.
1481.4 Producer eligibility.
1481.5 Sign-up period.
1481.6 Proof of loss.
1481.7 Indemnity benefits.
1481.8 Availability of funds.
1481.9 Limitations on payments.
1481.10 Crop insurance linkage.
1481.11 Miscellaneous provisions.

Authority: Pub. L. 106-387, 114 Stat. 1549; Pub. L. 108-7, 117 Stat. 11; 15 U.S.C. 714 et seq.

§ 1481.1 Applicability.

(a) This part sets forth the terms and conditions applicable to the Sugar Beet Disaster Program.

(b) Producers who were prevented from planted sugar beets, or who suffered either quantity or quality losses in excess of 35 percent to sugar beets while in the field in 2001 or 2002 due to adverse weather will be considered eligible for benefits for either of those years, but not both.

§ 1481.2 Administration.

Where circumstances preclude compliance with § 1481.4 due to circumstances beyond the applicant's control, the FSA county or State committee may request that relief be granted by the Deputy Administrator under this section. In such cases, except for statutory deadlines and other statutory requirements, the Deputy Administrator may, in order to more equitably accomplish the goals of this part, waive or modify deadlines and other program requirements if the failure to meet such deadlines or other requirements does not adversely affect operation of the program and are not prohibited by statute.

§ 1481.3 Definitions.

The definitions in this section shall apply to this part.

Application means the Sugar Beet Disaster Program Application, as provided by and available in any FSA office.

CCC means the Commodity Credit Corporation.

CDP means the Crop Disaster Program authorized in 7 CFR part 1480.

Deputy Administrator means the Deputy Administrator of Farm Programs, Farm Service Agency, U.S. Department of Agriculture or a designee.

Eligible losses are any sugar beet losses in excess of 35 percent to either quantity or quality, that occur while the beets are still in the field and are due to adverse weather conditions.

FSA means Farm Service Agency.

NAP means the Noninsured Crop Disaster Assistance Program.

RMA means the Risk Management Agency.

§ 1481.4 Producer eligibility.

(a) Producers will be eligible under this part if they have suffered losses of more than 35 percent of sugar beets in 2001 or 2002 as a result of a weather related condition, or as further specified in this part.

(b) Payments may be made for losses suffered by an eligible producer who is now deceased or is a dissolved entity if a representative who currently has authority to enter into a contract for the producer signs the application for payment. Proof of authority to sign for the deceased producer or dissolved entity must be provided. If a producer is now a dissolved general partnership or joint venture, all members of the general partnership or joint venture at the time of dissolution or their duly authorized representatives must sign the application for payment.

(c) As a condition to receive benefits under this part, a producer must have been in compliance with the Highly Erodible Land Conservation and Wetland Conservation provisions of 7 CFR part 12, for the 2001 or 2002 crop year, as applicable, and must not otherwise be barred from receiving benefits under 7 CFR part 12 or any other law.

§ 1481.5 Sign-up period.

A request for benefits under this part must be submitted to CCC at the FSA county office which serves the farm on which the affected sugar beets were planted or prevented from being planted. All applications must be filed in the FSA county office between September 15, 2003 and no later than the close of business on October 31, 2003, or another date determined and announced by the Deputy Administrator.

§ 1481.6 Proof of loss.

(a) Where available and determined accurate, RMA loss records will be used for insured sugar beets.

(b) For producers without crop insurance, the producer must provide documentation including the number of acres, yield, production, and sugar percent by unit for 2001 or 2002.

(c) Certifications by third parties or the owner and other such documentation will not be accepted.

(d) Producers shall certify to the accuracy of the information provided. All information provided is subject to verification and spot checks by CCC. Failure to provide information requested by the FSA county committee or by any agency official is cause for denial of any application filed under this part.

§ 1481.7 Indemnity benefits.

(a) Eligible producers with losses in excess of 35 percent in both 2001 and 2002 will have a choice of receiving payments of either 2001 or 2002 crop year, but not both.

(b) Eligible producers with losses in excess of 35 percent in one of either 2001 or 2002 may receive benefits for that year.

(c) Eligible producers will receive payments based on the higher of the following:

(1) For producers with crop insurance, 60 percent of their crop insurance indemnity.

(2) For any producer, with or without crop insurance, 65 percent of the higher of the producer's Actual Production History (APH) or the county average yield, minus actual yield, times 55 percent of the following Multi-Peril Crop Insurance (MPCI) price elections:

(i) For 2001 crop $36 per ton.

(ii) For 2002 crop $33 per ton.

(3) For any producer, with or without crop insurance, 100 percent of the higher of the producer's APH or the county average yield, minus the actual yield times $12.50 per ton.

§ 1481.8 Availability of funds.

(a) In the event that the total amount of eligible claims submitted under this part exceeds $60 million, then each payment shall be reduced by a uniform national percentage or other means of proration.

(b) Such payment reductions shall be applied after the imposition of applicable per-person payment limitation provisions.

§ 1481.9 Limitations on payments.

(a) The total amount of benefits that a person, as determined in accordance with part 1400 of this chapter, shall be entitled to receive under this part may not exceed $80,000.

(b) A person, as defined in part 1400 of this chapter, who has annual gross revenue in excess of $2.5 million shall not be eligible to receive assistance under this part. For the purpose of this determination, annual gross revenue means:

(1) With respect to a person who receives more than 50 percent of such person's gross income from farming and ranching, the total gross revenue received from such operations; and

(2) With respect to a person who receives 50 percent or less of such person's gross income from farming and ranching, the total gross revenue from all sources.

(c) Payments earned under other programs contained in this chapter shall not reduce the amount payable under this part.

(d) No person shall receive disaster benefits under this part in an amount that exceeds 100 percent of the value of the expected production for the relevant period as determined by CCC. Accordingly, as determined by CCC, the sum of the value of the crop not lost, if any, plus disaster payments, plus the net crop insurance indemnity, cannot exceed 100 percent of what the crop's value would have been if there had been no loss.

(e) All payments are subject to offsets as provided in 7 CFR part 1403.

§ 1481.10 Crop insurance linkage.

(a) Except as provided further in this section, any producer who elected not to purchase crop insurance or NAP coverage as applicable on 2001 or 2002 sugar beet crops for which the producer receives crop loss assistance must:

(1) Purchase crop insurance with additional coverage on that crop for the 2003 and 2004 crop years for sugar beets.

(2) Or, when such insurance cannot be obtained because it is not available, purchase NAP coverage by paying the administrative fee by the applicable State filing deadline and complete all required program requirements including yearly acreage reports, for the otherwise non-insurable sugar beet crop for both 2003 and 2004 crop years.

(b) If, at the time the producer applies for the 2001 or 2002 CDP the sales closing date for 2003 insurable crops, or for 2003 non-insurable crops for which the producer sought benefits under the 2001 or 2002 CDP has passed, the producer must instead to meet the requirement of this section, purchase crop insurance policy or obtain NAP sugar beet coverage, as applicable, for the next available 2 crop years.

(c) If any producer fails to purchase crop insurance or NAP, as required in paragraphs (a) or (b) of this section, the producer shall reimburse CCC for the full amount of the assistance, plus interest, provided to the producer under this part.

§ 1481.11 Miscellaneous provisions.

(a) A person shall be ineligible to receive disaster assistance under this part if it is determined by the State or county committee or an official of FSA that such person has:

(1) Adopted any scheme or other device that tends to defeat the purpose of a program operated under this part;

(2) Made any fraudulent representation with respect to such program; or

(3) Misrepresented any fact affecting a program determination.

(b) All persons with a financial interest in the operation receiving benefits under this part shall be jointly and severally liable for any refund, including related charges, which is determined to be due CCC for any reason under this part.

(c) In the event that any request for assistance or payment under this part was established as result of erroneous information or a miscalculation, the assistance or payment shall be recalculated and any excess refunded with applicable interest.

(d) The liability of any person for any penalty under this part or for any refund to CCC or related charge arising in connection therewith shall be in addition to any other liability of such person under any civil or criminal fraud statute or any other provision of law including, but not limited to: 18 U.S.C. 286, 287, 371, 641, 651, 1001 and 1014; 15 U.S.C. 714m; and 31 U.S.C. 3729.

(e) Any person who is dissatisfied with a determination made with respect to this part may make a request for reconsideration or appeal of such determination in accordance with the regulations set forth in parts 11 and 780 of this title.

(f) Any payment or portion thereof to any person shall be made without regard to questions of title under State law and without regard to any claim or lien against the crop, or proceeds thereof.

(g) For the purposes of 28 U.S.C. 3201(e), CCC waives the restriction on receipt of funds or benefits under this program but only as to beneficiaries who as a condition of such waiver agree to apply the 2001 or 2002 sugar beet payments to reduce the amount of the judgment lien.

Signed in Washington, DC, on August 11, 2003.
James R. Little,
Executive Vice President, Commodity Credit Corporation.

[FR Doc. 03-21039 Filed 8-15-03; 8:45 am]

BILLING CODE 3410-DS-P